DEPARTMENT OF TRANSPORTATION

Coast Guard

33 CFR Part 165

[COTP Western Alaska-02-001]

RIN 2115-AA97

Security Zone; Liquefied Natural Gas Tankers, Cook Inlet, AK

AGENCY: Coast Guard, DOT.

ACTION: Notice of proposed rulemaking.

SUMMARY: The Coast Guard is proposing to establish permanent security zones for Liquefied Natural Gas (LNG) tankers within the Western Alaska Marine Inspection Zone and Captain of the Port Zone. These security zones would establish a 1000-yard radius around the LNG tankers while they are loading at Phillips Petroleum LNG Pier and also while they are transiting inbound and outbound in the waters of Cook Inlet, Alaska between Phillips Petroleum LNG Pier and the Homer Pilot Station. These security zones temporarily close all navigable waters within a 1000-yard radius of the tankers. This action is necessary to protect the LNG tankers, Nikiski marine terminals, the community of Nikiski and the maritime community against terrorism, sabotage or other subversive acts and incidents of a similar nature during loading operations and LNG transits in Cook Inlet.

DATES: Comments must be received on or before May 28, 2002.

ADDRESSES: You may mail comments and related material to Coast Guard Marine Safety Office, 510 L Street, Suite 100, Anchorage, AK 99501. Coast Guard Marine Safety Office Anchorage maintains the public docket for this rulemaking. Comments and material received from the public, as well as documents indicated in this preamble as being available in the docket, will become part of this docket and will be available for inspection or copying at Coast Guard Marine Safety Office Anchorage between 7:30 a.m. and 4 p.m., Monday through Friday, except Federal holidays.

FOR FURTHER INFORMATION CONTACT: Lieutenant Mark McManus, USCG Marine Safety Detachment Kenai, at (907) 283-3292 or Lieutenant Commander Chris Woodley, USCG Marine Safety Office Anchorage, at (907) 271-6700.

SUPPLEMENTARY INFORMATION:

Request for Comments

We encourage you to participate in this rulemaking by submitting comments and related material. If you do so, please include your name and address, identify the docket number for this rulemaking (COTP Western Alaska 02-001), indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this proposed rule in view of them.

Public Meeting

We do not now plan to hold a public meeting. But you may submit a request for a meeting by writing to Coast Guard Marine Safety Office Anchorage at the address under ADDRESSES explaining why one would be beneficial. If we determine that one would aid this rulemaking, we will hold one at a time and place announced by a later notice in the Federal Register.

Background and Purpose

In light of the terrorist attacks in New York City and Washington, DC on September 11, 2001, the Coast Guard is proposing to establish permanent security zones on the navigable waters of Cook Inlet, Alaska to protect the LNG tankers that frequently traverse these waters, the Nikiski marine terminals, the community of Nikiski and the maritime community from potential sabotage or subversive acts and incidents of a similar nature.

This rulemaking proposes to make permanent the temporary security zones published on February 13, 2002 in the Federal Register (67 FR 6650) under temporary section 165.T17-006 of Title 33 of the Code of Federal Regulations (CFR). That rulemaking established temporary security zones with identical boundaries in the rulemaking proposed herein. This rulemaking is necessary to provide permanent protection of the LNG tankers when moored at the Phillips Petroleum LNG Pier and when transiting Cook Inlet.

Discussion of Proposed Rule

We propose to establish a 1000-yard radius security zone around LNG tankers while the vessels are moored at the Phillips Petroleum LNG Pier, Nikiski, Alaska. Our proposed rule would also create a 1000-yard radius moving security zone around the LNG tankers during their inbound and outbound transits in Cook Inlet, Alaska; specifically, starting and ending at the Homer Pilot Station in Cook Inlet, AK. These security zones prohibit entry into or movement within the specified areas. The security zones are designed to permit the safe and timely mooring, loading and departure of the vessels and the safe transit through Cook Inlet by minimizing potential waterborne threats to this operation. The limited size of the zone is designed to minimize impact on other mariners transiting through the area while ensuring public safety by preventing interference with the safe and secure loading and transit of the tankers.

This rule also adds a collection of information requirement in paragarph 165.1709(b)(1)(ii)(B) for vessels fishing in the vicinity of the Phillips Petroleum LNG Pier that would penetrate the 1000-yard security zone when the LNG tankers are moored at the pier. This collection of information was not required in the temporary final rule published in the Federal Register (67 FR 6650; February 13, 2002) because the fishing season does not occur in this area until the summer months. We require this information from fishing vessels to ensure the security of the LNG tankers and LNG facility against terrorism, sabotage or other subversive acts and incidents of a similar nature.

Regulatory Evaluation

This rule is not a “significant regulatory action” under section 3(f) of Executive Order 12886, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this rule to be minimal and that a full Regulatory Evaluation under paragraph 10(e) of the regulatory policies and procedures of DOT is unnecessary. This finding is based on the minimal time that vessels will be restricted from the zone, that vessels may still transit through the waters of Cook Inlet and dock at other Nikiski marine terminals.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit or anchor in the vicinity of the Phillips Petroleum LNG Pier during the time this zone is activated; and the owners or operators of fishing vessels fishing in the vicinity of the Phillips Petroleum LNG Pier during the months of June through August.

These security zones will not have a significant economic impact on a substantial number of small entities for the following reasons. Marine traffic will still be able to transit through Cook Inlet during the zones' activation. Additionally, vessels with cargo to load or offload from other Nikiski marine terminals in the vicinity of the zone will not be precluded from mooring at or getting underway from the terminals. The owners of fishing vessels that typically fish in the vicinity of the LNG pier during the summer months will be required to notify and provide information to the local Coast Guard Marine Safety Detachment in Kenai before being allowed to fish at the LNG pier. The Coast Guard will collect current information from them that is essential to keeping the pier secure from sabotage or subversive activities.

Collection of Information

This rule modifies an existing collection of information under the Paperwork Reduction Act of 1995 (44 U.S.C. 3501-3520). As defined in 5 CFR 1320.3(c), “collection of information” comprises reporting, recordkeeping, monitoring, posting, labeling, and other, similar actions. The title and description of the information collection, a description of those who must collect the information, and an estimate of the total annual burden follow. The estimate covers the time for reviewing instructions, searching existing sources of data, gathering and maintaining the data needed, and completing and reviewing the collection.

Title: Ports and Waterways Safety.

OMB Control Number: 2115-0540.

Summary of the Collection of Information: The Captain of the Port, Western Alaska requires information on fishing vessel owners and operators, and their vessels, desiring to fish in the security zone around the Phillips Petroleum LNG Pier.

Need for Information: To ensure port and vessel safety and security and to ensure the fishing industry openings are uninterrupted.

Proposed use of Information: This information is required to control vessel traffic, develop contingency plans, and enforce regulations.

Description of the Respondents: The respondents are owners, operators, or persons in charge of fishing vessels operating in the vicinity of the Phillips Petroleum LNG Pier.

Number of Respondents: The existing OMB-approved collection number of respondents is 1,329. This proposed rule would increase the number of respondents by 10 to a total of 1,339.

Frequency of Response: The existing OMB-approved collection annual number of responses is 1,329. This temporary rule will increase the number of responses by 10 to a total of 1,339.

Burden of Response: The existing OMB-approved collection burden of response is 2 and 1/4 hours. This proposed rule would not change the burden of response because it will take less time for the responders to complete this response. Their vessels and crew are smaller.

Estimate of Total Annual Burden: The existing OMB-approved collection total annual burden is 2,924 hours. This proposed rule would increase the total annual burden by 5 hours to a total of 2,929 hours.

We ask for public comment on the collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. The OMB approval is valid until November 30, 2003.

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This proposed rule will not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Consultation and Coordination With Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this proposed rule and concluded that under figure 2-1, paragraph 34(g), of Commandant Instruction M16475.1D, this rule is categorically excluded from further environmental documentation. This rule fits paragraph 34(g) as it establishes a security zone. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Add § 165.1709 to read as follows:

§ 165.1709 Security Zones: Liquefied Natural Gas Tanker Transits and Operations at Phillips Petroleum LNG Pier, Cook Inlet, AK.

(a) Location. The following areas are established as security zones during the specified conditions:

(1) All navigable waters within a 1000-yard radius of the Liquefied Natural Gas (LNG) tankers during their inbound and outbound transits through Cook Inlet, Alaska between the Phillips Petroleum LNG Pier, 60°40′43″ N and 151°24′10″ W, and the Homer Pilot Station at 59°34′86″ N and 151°25′74″ W. On the inbound transit, this security zone remains in effect until the tanker is alongside the Phillips Petroleum LNG Pier, 60°40′43″ N and 151°24′10″ W.

(2) All navigable waters within a 1000-yard radius of the Liquefied Natural Gas tankers while they are moored at Phillips Petroleum LNG Pier, 60°40′43″ N and 151°24′10″ W.

(b) Special Regulations. (1) For the purpose of this section, the general regulations contained in 33 CFR 165.33 apply to all but the following vessels in the area described in paragraph (a):

(i) Vessels scheduled to moor and offload or load cargo at other Nikiski marine terminals that have provided the Coast Guard with an Advance Notice of Arrival.

(ii) Commercial fishing vessels, including drift net and set net vessels, fishing from the waters within the zone, if

(A) The owner of the vessel has previously requested approval from the Captain of the Port representative Marine Safety Detachment Kenai, Alaska, to fish in the security zone and

(B) Has provided the Captain of the Port representative, Marine Safety Detachment Kenai, Alaska current information about the vessel, including:

(1) The name and/or the official number, if documented, or state number, if numbered by a state issuing authority;

(2) A brief description of the vessel, including length, color, and type of vessel;

(3) The name, Social Security number, current address, and telephone number of the vessel's master, operator or person in charge; and

(4) Upon request, information on the vessel's crew.

(C) The Captain of the Port must approve a vessel's request prior to being allowed into the security zone.

(D) The vessel is operated in compliance with any specific orders issued to the vessel by the Captain of the Port or other regulations controlling the operation of vessels within the security zone that may be in effect.

(2) All persons and vessels shall comply with the instructions of the Coast Guard Captain of the Port representative or the designated on-scene patrol personnel. These personnel are comprised of commissioned, warrant, and petty officers of the Coast Guard. Upon being hailed by a U. S. Coast Guard vessel by siren, radio, flashing light, or other means, the operator of a vessel shall proceed as directed.

(3) The Marine Safety Detachment Kenai will notify the maritime community of periods during which these security zones will be in effect by providing advance notice of scheduled arrivals and departures of the LNG tankers via a marine Broadcast Notice to Mariners.

Dated: February 27, 2002.
W.J. Hutmacher,
Captain, U.S. Coast Guard, Captain of the Port, Western Alaska.

[FR Doc. 02-10175 Filed 4-24-02; 8:45 am]

BILLING CODE 4910-15-P